DEPARTMENT OF HEALTH AND HUMAN SERVICES

Food and Drug Administration

[Docket No. FDA-2015-N-2781]

Obstetrics and Gynecology Device Panel of the Medical Device Advisory Committee; Correction

AGENCY: Food and Drug Administration, HHS.

ACTION: Notice; correction.

SUMMARY: The Food and Drug Administration (FDA) is correcting a notice that appeared in the Federal Register of June 9, 2014 (79 FR 32964). Due to some recent confusion with the 2014 docket, this 2014 notice and all materials associated with it are being moved to a new docket. This document announces the new docket number.

FOR FURTHER INFORMATION CONTACT: Lisa Granger, Office of Policy, Planning, Legislation, and Analysis, Food and Drug Administration, 10903 New Hampshire Ave., Bldg. 32, Rm. 3330, Silver Spring, MD 20993-0002, 301-796-9115.

SUPPLEMENTARY INFORMATION: In FR Doc. 2014-13290, appearing on page 32964, in the Federal Register of Monday, June 9, 2014, the following correction is made:

On page 32964, in the second column, in the headings section of the document, [Docket No. FDA-2014-N-0736]” is corrected to read “FDA-2015-N-2781”.

Please be aware that this new docket is no longer open for comment.

Dated: August 12, 2015.
Jill Hartzler Warner,
Associate Commissioner for Special Medical Programs.

[FR Doc. 2015-20397 Filed 8-18-15; 8:45 am]

BILLING CODE 4164-01-P